DEPARTMENT OF ENERGY

Office of Energy Efficiency and Renewable Energy

Revision of a Currently Approved Information Collection for the Energy Efficiency and Conservation Block Grant Financing Programs

AGENCY: Office of Energy Efficiency and Renewable Energy, Department of Energy.

ACTION: Submission for Office of Management and Budget (OMB) review; public comment request.

SUMMARY: The Department of Energy (DOE) invites public comment on a revision of a currently approved collection of information that DOE is developing for submission to the Office of Management and Budget (OMB) pursuant to the Paperwork Reduction Act of 1995. The information collection requests a revision and three-year extension of its Energy Efficiency and Conservation Block Grant Program, OMB Control Number 1910-5150.

The proposed action will continue the collection of information on the status of financing program activities, expenditures, and results, to ensure that program funds are being used appropriately, effectively and expeditiously. No changes to the collection instrument are being proposed.

Comments are invited on: (a) Whether the revision of the currently approved collection of information is necessary for the proper performance of the functions of the agency, including whether the information shall have practical utility; (b) the accuracy of the agency's estimate of the burden pertaining to the approved collection of information, including the validity of the methodology and assumptions used; (c) ways to further enhance the quality, utility, and clarity of the information being collected; and (d) ways to further minimize the burden regarding the collection of information on respondents, including through the use of automated collection techniques or other forms of information technology.

DATES: Comments regarding this revision to an approved information collection must be received on or before January 2, 2018. If you anticipate difficulty in submitting comments within that period, contact the person listed in ADDRESSES as soon as possible.

ADDRESSES: Written comments may be sent to: Sallie Glaize, EE-5W, U.S. Department of Energy, 1000 Independence Ave. SW., Washington, DC 20585, Email: Sallie.Glaize@ee.doe.gov.

FOR FURTHER INFORMATION CONTACT: Requests for additional information or copies of the information collection instrument and instructions should be directed to: James Carlisle, U.S. Department of Energy, 1000 Independence Ave. SW., Washington, DC 20585, Phone: (202) 287-1724, Fax: (412) 386-5835, Email: Gregory.Davoren@ee.doe.gov.

Additional information and reporting guidance concerning the Energy Efficiency and Conservation Block Grant Program (EECBG) is available for review at the following Web site: https://energy.gov/eere/wipo/articles/energy-efficiency-and-conservation-block-grant-financing-programs-after-grant.

SUPPLEMENTARY INFORMATION: This information collection request contains: (1) OMB No. 1910-5150; (2) Information Collection Request Title: Energy Efficiency and Conservation Block Grant Program Financing Programs; (3) Type of Review: Revision of a Currently Approved Information Collection; (4) Purpose: To collect information on the status of Financing Program activities, expenditures, and results, to ensure that program funds are being used appropriately, effectively and expeditiously; (5) Annual Estimated Number of Respondents: 108; (6) Annual Estimated Number of Total Responses: 175; (7) Annual Estimated Number of Burden Hours: 525; (8) Annual Estimated Reporting and Recordkeeping Cost Burden: $21,000. Respondents, total responses, burden hours and the annual cost burden have all been significantly reduced because of the retirement of grants, fewer programs and a lessened burden on reporting and recordkeeping costs.

Statutory Authority: Title V, Subtitle E of the Energy Independence and Security Act (EISA), Public Law 110-140 as amended (42 U.S.C. 17151 et seq.).

Issued in Washington, DC, October 26, 2017.
James Carlisle,
Supervisory Policy Advisor, Weatherization and Intergovernmental Program, Office of Energy Efficiency and Renewable Energy.

[FR Doc. 2017-23762 Filed 10-31-17; 8:45 am]

BILLING CODE 6450-01-P